DEPARTMENT OF TRANSPORTATION

Pipeline and Hazardous Materials Safety Administration

Notice of Application for Special Permits

AGENCY: Office of Hazardous Materials Safety, Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 3, 2014.

ADDRESSES: Send comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

SUPPLEMENTARY INFORMATION: This notice of receipt of applications for special permit is published in accordance with Part 107 of the Federal hazardous materials transportation law (49 U.S.C. 5117(b); 49 CFR 1.53(b)).

Issued in Washington, DC, on February 20, 2014.
Donald Burger,
Chief, General Approvals and Permits.

New Special Permits
Application No. | Docket No. | Applicant | Regulation(s) affected | Nature of special permits thereof
16013-N |  | Chem Technologies, Ltd. Middlefield, OH | 49 CFR 173.225(d)(1) and 173.240(e)(1) | To authorize the transportation in commerce of certain Class 4 and 5 hazardous materials in UN5OG large packagings. (modes 1, 3, 4, 5)
16015-N |  | GPI Corporation Schofield, WI | 49 CFR 173.240, 173.241, 173.242 and 173.243 | To authorize the manufacture, marking, sale and use of non-DOT specification cargo tanks similar to DOT 407 and 412 cargo tanks. (mode 1)
16016-N |  | iSi Automotive Austria GmbH Vienna | 49 CFR 173.301, 173.302a and 173.305 | To authorize the manufacture, marking, sale and use of non-DOT specification cylinders for use in use in automobile safety systems. (modes 1, 2, 3, 4, 5)
16017-N |  | Transportation Security Administration Arlington, VA | 49 CFR Part 107, Subpart B, Part 172, Appendix B; Subpart C; 173.25, 175.85 | To authorize the shipment of radiation detection survey meters containing a Division 2.2 compressed gas in the passenger compartment of commercial aircraft. (mode 5)
16022-N |  | Zhejiang Juhua Equipment Manufacturing Co., Ltd. Quzhou, Zh | 49 CFR 178.274(b), 178.276(b)(1) and 178.276(a)(2) | To authorize the manufacture, marking, sale and use of and non-DOT specification portable tanks mounted within an ISO frame that have been designed, constructed and stamped in accordance with Section VIII, Division 2 of the ASME Code. (modes 1, 2, 3)
16024-N |  | ManuIwa Airways, Inc. Hilo, HI | 49 CFR 175.9(a) | To authorize the transportation in commerce of certain hazardous materials by external load. (mode 4)
16030-N |  | Seattle Children's Hospital dba Seattle Children's Research Institute Seattle, WA | 49 CFR 49 CFR 173.24(b) | To authorize the transportation in commerce of a specification cylinder containing medical grade oxygen with the valve opened and connected to a system designed to maintain vital conditions needed to keep tissue samples viable for research use. (mode 1)
16031-N |  | Air Rescue Systems Ashland, OR | 49 CFR § 172.101 Column (9B), § 172.204(c)(3), § 173.27(b)(2), § 175.30(a)(1), §§ 172.200 and 172.301(c), Part 178 and § 175.75 | To authorize the transportation in commerce of certain hazardous materials by cargo aircraft including by external load in remote areas of the US without being subject to hazard communication requirements and >quantity limitations where no other means of transportation is available. (mode 4)
16037-N |  | E.I. DuPont de Nemours and Company Wilmington, DE | 49 CFR 173.242 | To authorize the transportation in commerce of a Class 8 (corrosive) solid in UN5OG large packagings. (modes 1, 2, 3)
16039-N |  | UTLX Manufacturing LLC. Alexandria, LA | 49 CFR 173.314(d) | To authorize the manufacture, marking, sale and use of non-DOT specification tank cars for the transportation in commerce of anhydrous ammonia.(mode 2)
16040-N |  | Multistar Ind., Inc. Othello, WA | 49 CFR 180.605(1) | To authorize the transportation in commerce of certain portable tanks and cargo tanks containing anhydrous ammonia that do not have manufacturer's data reports required by 49 CFR 180.605(1). (mode 1)

[FR Doc. 2014-04268 Filed 3-3-14; 8:45 am]

BILLING CODE 4909-60-M